DEPARTMENT OF COMMERCE

National Oceanic and Atmospheric Administration

RIN 0648-XG583

Atlantic Highly Migratory Species; Exempted Fishing, Scientific Research, Display, and Shark Research Fishery Permits; Letters of Acknowledgment

AGENCY: National Marine Fisheries Service (NMFS), National Oceanic and Atmospheric Administration (NOAA), Commerce.

ACTION: Notice of intent; request for comments; public webinar.

SUMMARY: NMFS announces its intent to issue exempted fishing permits (EFPs), scientific research permits (SRPs), display permits, letters of acknowledgment (LOAs), and shark research fishery permits for Atlantic highly migratory species (HMS) in 2019. EFPs and related permits would authorize collection of a limited number of HMS, including tunas, swordfish, billfishes, and sharks, from Federal waters in the Atlantic Ocean, Caribbean Sea, and Gulf of Mexico for the purposes of scientific research, data collection, the investigation of bycatch, and public display, among other things. LOAs acknowledge that scientific research activity aboard a scientific research vessel is being conducted. Generally, EFPs and related permits would be valid from the date of issuance through December 31, 2019, unless otherwise specified, subject to the terms and conditions of individual permits. This notice also schedules a public webinar/conference call for applicants, during which NMFS will provide a general overview of the EFP program and hold a question and answer session.

DATES: Written comments received in response to this notice will be considered by NMFS when issuing EFPs and related permits and must be received on or before November 30, 2018. NMFS also will host an operator-assisted public webinar/conference call on November 14, 2018, from 2 p.m. to 4 p.m. EDT, providing an opportunity for applicants to listen to a general overview of the EFP program and hold a question and answer session.

ADDRESSES: Comments may be submitted by any of the following methods:

• Email: nmfs.hms.efp2019@noaa.gov. Include in the subject line the following identifier: 0648-XG583.

• Mail: Craig Cockrell, Highly Migratory Species Management Division (F/SF1), NMFS, 1315 East-West Highway, Silver Spring, MD 20910.

Instructions: The public webinar/conference call information is phone number (888) 942-8612; participant passcode 6276326. Participants are strongly encouraged to log/dial in 15 minutes prior to the meeting. NMFS will show a brief overview presentation via webinar followed by a question and answer session: https://noaaevents2.webex.com/noaaevents2/onstage/g.php?MTID=ee7c953be8b128d064d6557dbb5e5423b; password: NOAA.

FOR FURTHER INFORMATION CONTACT: Craig Cockrell, phone: (301) 427-8503

SUPPLEMENTARY INFORMATION: Issuance of EFPs and related permits are necessary because HMS regulations (e.g., regarding fishing seasons, prohibited species, authorized gear, closed areas, and minimum sizes) may otherwise prohibit the collection of live animals and/or biological samples for data collection and public display purposes or may otherwise prohibit certain fishing activity that NMFS has an interest in permitting or acknowledging. Pursuant to 50 CFR parts 600 and 635, a NMFS Regional Administrator or Director may authorize, for limited testing, public display, data collection, exploratory fishing, compensation fishing, conservation engineering, health and safety surveys, environmental cleanup, and/or hazard removal purposes, the target or incidental harvest of species managed under an FMP or fishery regulations that would otherwise be prohibited. These permits exempt permit holders from the specific portions of the regulations that may otherwise prohibit the collection of HMS for public education, public display, or scientific research. Permit holders are not exempted from the regulations in their entirety. Collection of HMS under EFPs, SRPs, display, and shark research fishery permits represents a small portion of the overall fishing mortality for HMS, and this mortality is counted against the quota of the species harvested, as appropriate and applicable. The terms and conditions of individual permits are unique; however, all permits will include reporting requirements, limit the number and/or species of HMS to be collected, and only authorize collection in Federal waters of the Atlantic Ocean, Gulf of Mexico, and Caribbean Sea.

EFPs and related permits are issued under the authority of the Magnuson-Stevens Fishery Conservation and Management Reauthorization Act (Magnuson-Stevens Act) (16 U.S.C. 1801 et seq.) and/or the Atlantic Tunas Convention Act (ATCA) (16 U.S.C. 971 et seq.). Regulations at 50 CFR 600.745 and 635.32 govern scientific research activity, exempted fishing, and exempted public display and educational activities with respect to Atlantic HMS. Because the Magnuson-Stevens Act states that scientific research activity which is conducted on a scientific research vessel is not fishing, NMFS issues LOAs and not EFPs for bona fide research activities (e.g., scientific research being conducted from a research vessel and not a commercial or recreational fishing vessel) involving species that are only regulated under the Magnuson-Stevens Act (e.g., most species of sharks) and not under ATCA. NMFS generally does not consider recreational or commercial vessels to be bona fide research vessels. However, if the vessels have been contracted only to conduct research and not participate in any commercial or recreational fishing activities during that research, NMFS may consider those vessels as bona fide research platforms while conducting the specified research. For example, in the past, NMFS has determined that commercial pelagic longline vessels assisting with population surveys for sharks may be considered “bona fide research vessels” while engaged only in the specified research. For such activities, NMFS reviews scientific research plans and may issue an LOA acknowledging that the proposed activity is scientific research under the Magnuson-Stevens Act. Examples of research acknowledged by LOAs include tagging and releasing sharks during bottom longline surveys to understand the distribution and seasonal abundance of different shark species, and collecting and sampling sharks caught during trawl surveys for life history and bycatch studies.

While scientific research is not defined as “fishing” subject to the MSA, scientific research is not exempt from regulation under ATCA. Therefore, NMFS issues SRPs that authorize researchers to collect HMS from bona fide research vessels for collection of species managed under this statute (e.g., tunas, swordfish, and billfish). One example of research conducted under SRPs consists of scientific surveys of tunas, swordfish and billfish conducted from NOAA research vessels.

EFPs are issued for activities conducted from commercial or recreational fishing vessels. Examples of activities conducted under EFPs include collection of young-of-year bluefin tuna for genetic research; conducting billfish larval tows from private vessels to determine billfish habitat use, life history, and population structure, and tagging sharks caught on commercial or recreational fishing gear to determine post-release mortality rates.

NMFS is also seeking public comment on its intent to issue display permits for the collection of sharks and other HMS for public display in 2019. Collection of sharks and other HMS sought for public display in aquaria often involves collection when the commercial fishing seasons are closed, collection of otherwise prohibited species (e.g., sand tiger sharks), and collection of fish below the regulatory minimum size. Under Amendment 2 to the 2006 Consolidated Atlantic HMS Fishery Management Plan, NMFS determined that dusky sharks cannot be collected for public display.

The majority of EFPs and related permits described in this annual notice relate to scientific sampling and tagging of Atlantic HMS within existing quotas and the impacts of the activities to be conducted usually have been previously analyzed in various environmental assessments and environmental impact statements for Atlantic HMS management. In most such cases, NMFS intends to issue these permits without additional opportunity for public comment beyond what is provided in this notice. Occasionally, NMFS receives applications for research activities that were not anticipated, or for research that is outside the scope of general scientific sampling and tagging of Atlantic HMS, or rarely, for research that is particularly controversial. Should NMFS receive such applications, NMFS will provide additional opportunity for public comment, consistent with the regulations at 50 CFR 600.745.

On June 19, 2017, NMFS received an application for an EFP requesting an exemption from the regulations that prohibit the retention of bluefin tuna with unauthorized gear onboard. See 50 CFR 635.19(b). This application was submitted by the Cape Cod Commercial Fishermen's Alliance (CCCFA). The applicants suggested that with the use of electronic monitoring (EM) and through issuance of an EFP, there would be sufficient at-sea monitoring to verify the catch of bluefin tuna occurred with authorized gear (e.g., rod and reel and harpoon gear) and not on the unauthorized gear onboard the vessel (e.g., benthic longline, jigging machines, handgear, demersal gillnet, or otter trawl). An EFP was issued to the CCCFA on October 2, 2017 and exempted 5 vessels from 50 CFR 635.19(b). The permit was amended twice, to extend the expiration date to December 31, 2018 and add an additional vessel. To date no fishing has occurred under this permit. NMFS expects to receive an application to renew this EFP for 2019. Comments are invited specifically on these issues related to issuance of a similar permit to the CCCFA this year.

In addition, Amendment 2 to the 2006 Consolidated HMS Fishery Management Plan (FMP) implemented a shark research fishery. This research fishery is conducted under the auspices of the exempted fishing permit program. Shark research fishery permit holders assist NMFS in collecting valuable shark life history and other scientific data required in shark stock assessments. Since the shark research fishery was established in 2008, the research fishery has allowed for: The collection of fishery dependent data for current and future stock assessments; the operation of cooperative research to meet NMFS' ongoing research objectives; the collection of updated life-history information used in the sandbar shark (and other species) stock assessment; the collection of data on habitat preferences that might help reduce fishery interactions through bycatch mitigation; the evaluation of the utility of the mid-Atlantic closed area on the recovery of dusky sharks; the collection of hook-timer and pop-up satellite archival tag information to determine at-vessel and post-release mortality of dusky sharks; and the collection of sharks to update the weight conversion factor from dressed weight to whole weight. Fishermen who wish to participate must fill out an application for a shark research fishery permit under the exempted fishing program. Shark research fishery participants are subject to 100-percent observer coverage. All non-prohibited shark species brought back to the vessel dead must be retained and will count against the appropriate quotas of the shark research fishery participant. In recent years, all participants of the shark research fishery were limited to a very small number of dusky shark mortalities on a regional basis. Once the designated number of dusky shark mortalities occurs in a specific region certain terms and conditions are applied (e.g., soak time limits). If subsequent interactions occur in the region all shark research fishery activities must stop within that region. Participants would continue to be limited to two sets per trip, with one set limited to 150 hooks and the second set limited to 300 hooks. All participants are also limited to a maximum of 500 hooks onboard the vessel while on a shark research fishery trip. A Federal Register notice describing the specific objectives for the shark research fishery in 2019 and requesting applications from interested and eligible shark fishermen is expected to publish in the near future. NMFS requests public comment regarding NMFS' intent to issue shark research fishery permits in 2019 during the comment period of this notice.

The authorized number of specimens that have been authorized thus far under EFPs and other related permits for 2018, as well as the number of specimens collected in 2017, is summarized in Table 1. The number of specimens collected in 2018 will be available when all 2018 interim and annual reports are submitted to NMFS. In 2017, the number of specimens collected was less than the number of authorized specimens for all permit types, other than SRPs issued for shark research.

In all cases, mortalities associated with EFPs, SRPs, or display permits (except for larvae) are counted against the appropriate quota. NMFS issued a total of 33 EFPs, SRPs, display permits, and LOAs in 2017 for the collection of HMS and 5 shark research fishery permits. As of October 3, 2018, NMFS has issued a total of 39 EFPs, SRPs, display permits, and LOAs and 6 shark research fishery permits.

Table 1—Summary of HMS Exempted Fishing Permits Issued in 2017 and 2018, Other Than Shark Research Fishery Permits
[“HMS” refers to multiple species being collected under a given permit type]
Permit type | 2017: Permits issued ** | 2017: Authorized fish (No.) | 2017: Authorized larvae (No.) | 2017: Fish kept/ discarded dead (No.) | 2017: Larvae kept (No.) | 2018: Permits Issued ** | 2018: Authorized fish (No.) **
EFP:
HMS | 4 | 357 | 0 | 17 | 0 | 2 | 162
Shark | 4 | 57 | 0 | 85 | 0 | 4 | 0
Tuna | 2 | 350 | 0 | 2 | 0 | 2 | 750
SRP:
HMS | 3 | 260 | 0 | 70 | 0 | 6 | 2,030
Shark | 1 | 720 | 0 | 300 | 0 | 1 | 487
Tuna | 0 | 0 | 0 | 0 | 0 | 1 | 0
Display:
HMS | 2 | 88 | 0 | 6 | 0 | 2 | 84
Shark | 5 | 109 | 0 | 38 | 0 | 6 | 185
Total | 21 | 1,941 | 0 | 518 | 0 | 24 | 3,698
LOA: *
Shark | 12 | 2,275 | 0 | 513 | 0 | 15 | 185
* LOAs acknowledge scientific research activity but do not authorize activity. Thus, the number of sharks in the authorized fish column are estimates of harvest under LOAs. Permittees are encouraged to report all fishing activities in a timely manner.
**Atlantic HMS larvae were authorized in one permit for collection but no limit on the number of larvae were set. Some shark EFPs and LOAs were issued for the purposes of tagging and the opportunistic sampling of sharks and were not expected to result in large amounts of mortality. Given this some mortality may occur throughout 2018 and will be accounted for under the 60 metric ton shark research and display quota.

Final decisions on the issuance of any EFPs, SRPs, display permits, and shark research fishery permits will depend on the submission of all required information about the proposed activities, NMFS' review of public comments received on this notice, an applicant's reporting history on past permits, if vessels or applicants were issued any prior violations of marine resource laws administered by NOAA, consistency with relevant NEPA documents, and any consultations with appropriate Regional Fishery Management Councils, states, or Federal agencies. NMFS does not anticipate any significant environmental impacts from the issuance of these EFPs, consistent with the assessment of such activities within the environmental impacts analyses in existing HMS actions, including the 1999 FMP, the 2006 Consolidated HMS FMP and its amendments, the Environmental Assessment for the 2012 Swordfish Specifications, and the Environmental Assessment for the 2015 Final Bluefin Tuna Quota and Atlantic Tuna Fisheries Management Measures.

NMFS is also planning to hold a public webinar/conference call for potential applicants to the EFP program due to requests for additional information from some of the current applicants and a need to clarify some terms and conditions and agency expectations. NMFS will present a brief overview of the program, clarify a number of issues we have encountered from applicants when they are applying for these permits, and conduct a question and answer session. Requests for language interpretation or other auxiliary aids should be directed to Craig Cockrell at 301-427-8503, at least 7 days prior to the meeting. A NMFS representative will attempt to structure the meeting so that all attending members of the public will be able to comment if they so choose. If attendees do not respect the ground rules they will be asked to leave the public webinar/conference call.

Authority: 16 U.S.C. 971 et seq. and 16 U.S.C. 1801 et seq.

Dated: October 26, 2018.
Karen H. Abrams,
Acting Director, Office of Sustainable Fisheries, National Marine Fisheries Service.

[FR Doc. 2018-23791 Filed 10-30-18; 8:45 am]

BILLING CODE 3510-22-P